DEPARTMENT OF JUSTICE

Executive Office for Immigration Review

8 CFR Part 1274a

Control of Employment of Aliens

CFR Correction

In Title 8 of the Code of Federal Regulations, revised as of Jan. 1, 2004, on page 1094, § 1274a.12 is corrected in paragraph (c)(5) by removing text beginning with “Ill(6)” to the end of the paragraph.

[FR Doc. 04-55514 Filed 6-22-04; 8:45 am]

BILLING CODE 1505-01-D